DEPARTMENT OF TRANSPORTATION

Federal Aviation Administration

Twenty-Fifth Meeting: RTCA Special Committee (214) Standards for Air Traffic Data Communication Services (Joint With EUROCAE WG-78)

AGENCY: Federal Aviation Administration (FAA), U.S. Department of Transportation (DOT).

ACTION: Notice of Twenty-Fifth RTCA Special Committee 214 Meeting.

SUMMARY: The FAA is issuing this notice to advise the public of the Twenty-Fifth RTCA Special Committee 214 meeting.

DATES: The meeting will be held January 13, 2016 from 08:00 a.m.-10:00 a.m.

ADDRESSES: The meeting will be held at RTCA, Inc., 1150 18th Street NW., Suite 910, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 214. The meeting's objectives will be to resolve issues that arose following the last plenary resolution; approve comments received during FRAC/Open consultation of Revision A to Baseline 2 Standards SPR and INTEROPS; and to approve documents for submission to RTCA PMC and EUROCAE Council for publication. The agenda will include the following:

Wednesday, January 13, 2016

1. Welcome/Introduction/Administrative Remarks

2. Approval of the Agenda of Plenary 25

3. Approval of the Minutes of Plenary 24

4. Description of new finding and approach to resolve

5. Approval of resolution and submission of documents to RTCA PMC and EUROCAE Council for publication

6. Adjourn

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on December 29, 2015.
Latasha Robinson,
Management & Program Analyst, Next Generation, Enterprise Support Services Division, Federal Aviation Administration.

[FR Doc. 2015-33061 Filed 12-31-15; 8:45 am]

BILLING CODE 4910-13-P